DEPARTMENT OF ENERGY

Federal Energy Regulatory Commission

Combined Notice of Filings

Take notice that the Commission has received the following Natural Gas Pipeline Rate and Refund Report filings:

Filings Instituting Proceedings

Docket Numbers: RP11-2541-000.

Applicants: Trailblazer Pipeline Company LLC.

Description: Trailblazer Pipeline Company LLC submits tariff filing per 154.204: Tenaska Negotiated Rate and Non-Conforming Agreement to be effective 9/1/2011.

Filed Date: 09/01/2011.

Accession Number: 20110901-5104.

Comment Date: 5 p.m. Eastern Time on Tuesday, September 13, 2011.

Docket Numbers: RP11-2542-000.

Applicants: Central New York Oil And Gas, LLC.

Description: Central New York Oil And Gas, LLC submits tariff filing per 154.402: 2011 ACA Filing of CNYOG to be effective 10/1/2011.

Filed Date: 09/01/2011.

Accession Number: 20110901-5130.

Comment Date: 5 p.m. Eastern Time on Tuesday, September 13, 2011.

Docket Numbers: RP11-2543-000.

Applicants: Texas Eastern Transmission, LP.

Description: Texas Eastern Transmission, LP submits tariff filing per 154.203: 2011 Operational Entitlements Filing to be effective N/A.

Filed Date: 09/01/2011.

Accession Number: 20110901-5137.

Comment Date: 5 p.m. Eastern Time on Tuesday, September 13, 2011.

Docket Numbers: RP11-2544-000.

Applicants: Granite State Gas Transmission, Inc.

Description: Granite State Gas Transmission, Inc. submits tariff filing per 154.203: Settlement Agreement Compliance Filing to be effective 8/1/2011.

Filed Date: 09/01/2011.

Accession Number: 20110901-5147.

Comment Date: 5 p.m. Eastern Time on Tuesday, September 13, 2011.

Docket Numbers: RP11-2545-000.

Applicants: Nautilus Pipeline Company, LLC.

Description: Nautilus Pipeline Company, LLC submits tariff filing per 154.204: Annual Charge Adjustment to be effective 10/1/2011.

Filed Date: 09/01/2011.

Accession Number: 20110901-5155.

Comment Date: 5 p.m. Eastern Time on Tuesday, September 13, 2011.

Docket Numbers: RP11-2546-000.

Applicants: Garden Banks Gas Pipeline, LLC.

Description: Garden Banks Gas Pipeline, LLC submits tariff filing per 154.204: Annual Charge Adjustment to be effective 10/1/2011.

Filed Date: 09/01/2011.

Accession Number: 20110901-5157.

Comment Date: 5 p.m. Eastern Time on Tuesday, September 13, 2011.

Docket Numbers: RP11-2547-000.

Applicants: Mississippi Canyon Gas Pipeline, LLC.

Description: Mississippi Canyon Gas Pipeline, LLC submits tariff filing per 154.204: Annual Charge Adjustment Filing to be effective 10/1/2011.

Filed Date: 09/01/2011.

Accession Number: 20110901-5158.

Comment Date: 5 p.m. Eastern Time on Tuesday, September 13, 2011.

Docket Numbers: RP11-2548-000.

Applicants: WTG Hugoton, LP.

Description: WTG Hugoton, LP submits tariff filing per 154.402: WTG Hugoton, LP 2011 Annual Charge Adjustment to be effective 10/1/2011.

Filed Date: 09/01/2011.

Accession Number: 20110901-5160.

Comment Date: 5 p.m. Eastern Time on Tuesday, September 13, 2011.

Docket Numbers: RP11-2549-000.

Applicants: West Texas Gas, Inc.

Description: West Texas Gas, Inc. submits tariff filing per 154.402: West Texas Gas, Inc. 2011 Annual Charge Adjustment to be effective 10/1/2011.

Filed Date: 09/01/2011.

Accession Number: 20110901-5161.

Comment Date: 5 p.m. Eastern Time on Tuesday, September 13, 2011.

Docket Numbers: RP11-2550-000.

Applicants: Western Gas Interstate Company.

Description: Western Gas Interstate Company submits tariff filing per 154.402: Western Gas Interstate Company 2011 Annual Charge Adjustment to be effective 10/1/2011.

Filed Date: 09/01/2011.

Accession Number: 20110901-5162.

Comment Date: 5 p.m. Eastern Time on Tuesday, September 13, 2011.

Docket Numbers: RP11-2551-000.

Applicants: Texas Gas Transmission, LLC.

Description: Texas Gas Transmission, LLC submits tariff filing per 154.204: Cross Timbers Amendment to Negotiated Rate Agreement 29061 to be effective 9/1/2011.

Filed Date: 09/01/2011.

Accession Number: 20110901-5180.

Comment Date: 5 p.m. Eastern Time on Tuesday, September 13, 2011.

Docket Numbers: RP11-2552-000.

Applicants: Central New York Oil And Gas, LLC.

Description: Central New York Oil And Gas, LLC submits tariff filing per 154.204: CNYOG Nonconforming FWSAs to be effective 10/1/2011.

Filed Date: 09/01/2011.

Accession Number: 20110901-5197.

Comment Date: 5 p.m. Eastern Time on Tuesday, September 13, 2011.

Docket Numbers: RP11-2553-000.

Applicants: Enbridge Offshore Pipelines (UTOS) LLC.

Description: Enbridge Offshore Pipelines (UTOS) LLC submits tariff filing per 154.204: Annual Charge Adjustment to be effective 10/1/2011.

Filed Date: 09/01/2011.

Accession Number: 20110901-5202.

Comment Date: 5 p.m. Eastern Time on Tuesday, September 13, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2441-001.

Applicants: Columbia Gas Transmission, LLC.

Description: Columbia Gas Transmission, LLC submits tariff filing per 154.205(b): ACA Errata 2011 to be effective 10/1/2011.

Filed Date: 09/01/2011.

Accession Number: 20110901-5200.

Comment Date: 5 p.m. Eastern Time on Tuesday, September 13, 2011.

Docket Numbers: RP11-2445-001.

Applicants: Millennium Pipeline Company, LLC.

Description: Millennium Pipeline Company, LLC submits tariff filing per 154.205(b): ACA Errata 2011 to be effective 10/1/2011.

Filed Date: 09/01/2011.

Accession Number: 20110901-5205.

Comment Date: 5 p.m. Eastern Time on Tuesday, September 13, 2011.

Docket Numbers: RP11-2446-001.

Applicants: Crossroads Pipeline Company.

Description: Crossroads Pipeline Company submits tariff filing per 154.205(b): ACA Errata 2011 to be effective 10/1/2011.

Filed Date: 09/01/2011.

Accession Number: 20110901-5199.

Comment Date: 5 p.m. Eastern Time on Tuesday, September 13, 2011.

Docket Numbers: RP11-2475-001.

Applicants: Williston Basin Interstate Pipeline Comp.

Description: Williston Basin Interstate Pipeline Company submits tariff filing per 154.205(b): ACA Amendment to be effective 10/1/2011.

Filed Date: 09/01/2011.

Accession Number: 20110901-5178.

Comment Date: 5 p.m. Eastern Time on Tuesday, September 13, 2011.

Docket Numbers: RP11-2476-001.

Applicants: Williston Basin Interstate Pipeline Company.

Description: Williston Basin Interstate Pipeline Company submits tariff filing per 154.205(b): Semi-annual Fuel & Electric Power Reimbursement Amendment to be effective 10/1/2011.

Filed Date: 09/01/2011.

Accession Number: 20110901-5190.

Comment Date: 5 p.m. Eastern Time on Tuesday, September 13, 2011.

Docket Numbers: RP11-2489-001.

Applicants: Empire Pipeline, Inc.

Description: Empire Pipeline, Inc. submits tariff filing per 154.205(b): ACA 2011—Correction Filing to be effective 10/1/2011.

Filed Date: 09/01/2011.

Accession Number: 20110901-5203.

Comment Date: 5 p.m. Eastern Time on Tuesday, September 13, 2011.

Docket Numbers: RP11-2503-001.

Applicants: Empire Pipeline, Inc.

Description: Empire Pipeline, Inc. submits tariff filing per 154.205(b): ACA 2011—Correction Filing to be effective 10/1/2011.

Filed Date: 09/01/2011.

Accession Number: 20110901-5204.

Comment Date: 5 p.m. Eastern Time on Tuesday, September 13, 2011.

Docket Numbers: RP11-2515-001.

Applicants: Iroquois Gas Transmission System, L.P.

Description: Iroquois Gas Transmission System, L.P. submits tariff filing per 154.205(b): 09/01/11 ACA 2011 Amendment to be effective 10/1/2011.

Filed Date: 09/01/2011.

Accession Number: 20110901-5159.

Comment Date: 5 p.m. Eastern Time on Tuesday, September 13, 2011.

Docket Numbers: RP11-2511-001.

Applicants: Tennessee Gas Pipeline Company.

Description: Tennessee Gas Pipeline Company submits tariff filing per 154.205(b): ACA 2011 Amendment to be effective 10/1/2011.

Filed Date: 09/02/2011.

Accession Number: 20110902-5000.

Comment Date: 5 p.m. Eastern Time on Wednesday, September 14, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 2, 2011.
Nathaniel J. Davis, Sr.,
Deputy Secretary.

[FR Doc. 2011-23084 Filed 9-8-11; 8:45 am]

BILLING CODE 6717-01-P